DEPARTMENT OF THE INTERIOR

Bureau of Land Management

[WY-957-04-1910-BJ-5BPA]

Notice of Filing of Plats of Survey, Nebraska

SUMMARY: The Bureau of Land Management (BLM) is scheduled to file the plats of surveys of the lands described below thirty (30) calendar days from the date of this publication in the BLM Wyoming State Office, Cheyenne, Wyoming.

FOR FURTHER INFORMATION CONTACT: Bureau of Land Management, 5353 Yellowstone Road, PO Box 1828, Cheyenne, Wyoming 82003.

SUPPLEMENTARY INFORMATION: These surveys were executed at the request of the Bureau of Indian Affairs and are necessary for the management of these lands. The lands surveyed are: The plat and field notes representing the dependent resurvey of portions of the subdivisional lines and subdivision of section lines, and the survey of the subdivision of section 34, Township 26 North, Range 9 East, Sixth Principal Meridian, Nebraska, was accepted August 12, 2004.

Copies of the preceding described plat and field notes are available to the public at a cost of $1.10 per page.

Dated: August 13, 2004.
John P. Lee,
Chief Cadastral Surveyor, Division of Support Services.

[FR Doc. 04-18994 Filed 8-18-04; 8:45 am]

BILLING CODE 4310-22-P